DEPARTMENT OF STATE

[Public Notice 11595]

Designation of Revolutionary Armed Forces of Colombia People's Army, Nestor Gregorio Vera Fernandez, Miguel Santanilla Botache, and Euclides Espana Caicedo as Specially Designated Global Terrorists

Acting under the authority of and in accordance with section 1(a)(ii)(A) of E.O. 13224 of September 23, 2001, as amended by E.O. 13268 of July 2, 2002, E.O. 13284 of January 23, 2003, and E.O. 13886 of September 9, 2019, I hereby determine that the person known as Revolutionary Armed Forces of Colombia—People's Army, also known as FARC—EP, also known as Fuerzas Armadas Revolucionarias de Colombia—Ejercito del Pueblo, also known as FARC dissidents FARC—EP, also known as Revolutionary Armed Forces of Colombia dissidents FARC—EP, also known as FARC—D FARC—EP, also known as Grupo Armado Organizado Residual FARC—EP, also known as GAO-R FARC—EP, also known as Residual Organized Armed Group FARC—EP, is a foreign person that has committed, attempted to commit, poses a significant risk of committing, or has participated in training to commit acts of terrorism that threaten the security of U.S. nationals or the national security, foreign policy, or economy of the United States.

Acting under the authority of and in accordance with section 1(a)(ii)(B) of E.O. 13224 of September 23, 2001, as amended by E.O. 13268 of July 2, 2002, E.O. 13284 of January 23, 2003, and E.O. 13886 of September 9, 2019, I hereby determine that the persons known as Nestor Gregorio Vera Fernandez, also known as Ivan Mordisco; Miguel Santanilla Botache, also known as Gentil Duarte, also known as Miguel Botache Santillana; and Euclides Espana Caicedo, also known as Jhon Fredey Henao Munoz, also known as Jhonier, also known as Jonier, also known as Jonnier, are leaders of Revolutionary Armed Forces of Colombia—People's Army, a group whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224, 66 FR 49079, 3 CFR, 2001 Comp., p. 786.

Dated: November 18, 2021.
Antony J. Blinken,
Secretary of State.

[FR Doc. 2021-26123 Filed 11-30-21; 8:45 am]

BILLING CODE 4710-AD-P